DEPARTMENT OF TRANSPORTATION

Federal Aviation Administration

14 CFR Part 39

[Docket No. FAA-2005-21230; Directorate Identifier 2004-SW-51-AD; Amendment 39-14209; AD 2005-16-04]

RIN 2120-AA64

Airworthiness Directives; Bell Helicopter Textron Model 206A and 206B Helicopters

AGENCY: Federal Aviation Administration, DOT.

ACTION: Final rule.

SUMMARY: This amendment adopts a new airworthiness directive (AD) for Bell Helicopter Textron (Bell) Model 206A and 206B helicopters modified by Aeronautical Accessories, Inc. Supplemental Type Certificate (STC) SH1392SO with certain part-numbered high crosstubes. This amendment requires inspecting at specified time intervals and replacing any cracked crosstubes. This amendment is prompted by the discovery of a cracked high forward crosstube. The actions specified by this AD are intended to detect a crack in the crosstube which could lead to failure of the crosstube, collapse of the landing gear, and subsequent loss of control of the helicopter.

DATES: Effective September 12, 2005.

ADDRESSES: You may get the service information identified in this AD from Aeronautical Accessories, Inc., P.O. Box 3689, Bristol, Tennessee 37625-3689, telephone (423) 538-5151 or (800) 251-7094, fax (423) 538-8469, or e-mail at sales@aero-access.com.

Examining the Docket: You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION: A proposal to amend 14 CFR part 39 to include an AD for Bell Model 206A and 206B helicopters that have Aeronautical Accessories, Inc. crosstubes installed was published in the Federal Register on May 17, 2005 (70 FR 28220). That action proposed to require the following within 300 hours time-in-service (TIS) or 60 days, whichever occurs first, and after that at intervals not to exceed 300 hours TIS or 12 months, whichever occurs first:

• Inspecting each forward crosstube, part number (P/N) 206-321-001 with serial number (S/N) 1001 through 1152, for a crack and replacing any cracked crosstube with an airworthy crosstube before further flight; and

• Inspecting each high aft crosstube, P/N 206-321-002, with S/N 2001 through 2152, for a crack and replacing any cracked crosstube with an airworthy crosstube before further flight.

Interested persons have been afforded an opportunity to participate in the making of this amendment. No comments were received on the proposal or the FAA's determination of the cost to the public. The FAA has determined that air safety and the public interest require the adoption of the rule as proposed.

We estimate that this AD will affect 150 helicopters of U.S. registry. Inspecting both crosstubes on each helicopter will take approximately 3 work hours and replacing both crosstubes, if necessary, will also take approximately 3 work hours. The average labor rate is $65 per work hour. Required parts will cost approximately $2,260 per crosstube. Based on these figures, the total cost impact of the AD on U.S. operators is estimated to be $736,500 ($4,910 per helicopter, assuming one inspection and one forward and one aft crosstube replacement on the entire fleet).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-16-04 Bell Helicopter Textron: Amendment 39-14209. Docket No. FAA-2005-21230; Directorate Identifier 2004-SW-51-AD.

Applicability: Model 206A and 206B helicopters modified by Aeronautical Accessories, Inc. Supplemental Type Certificate SH1392SO, with high forward crosstube, part number (P/N) 206-321-001 with serial number (S/N) 1001 through 1152, and high aft crosstube, P/N 206-321-002 with S/N 2001 through 2152, installed, certificated in any category.

Compliance: Required as indicated, unless accomplished previously.

To detect a crack in the crosstube, which could lead to failure of the crosstube, collapse of the landing gear, and subsequent loss of control of the helicopter, accomplish the following:

(a) Within 300 hours time-in-service (TIS) or 60 days, whichever occurs first, and after that at intervals not to exceed 300 hours TIS or 12 months, whichever occurs first, remove each crosstube and inspect it for cracks. Replace any cracked crosstube with an airworthy crosstube before further flight.

Note: Aeronautical Accessories, Inc. Alert Service Bulletin No. AA-03121, dated October 25, 2004, pertains to the subject of this AD.

(b) To request a different method of compliance or a different compliance time for this AD, follow the procedures in 14 CFR 39.19. Contact the Rotorcraft Certification Office, Rotorcraft Directorate, FAA, for information about previously approved alternative methods of compliance.

(c) This amendment becomes effective on September 12, 2005.

Issued in Fort Worth, Texas, on July 29, 2005.
S. Frances Cox,
Acting Manager, Rotorcraft Directorate, Aircraft Certification Service.

[FR Doc. 05-15581 Filed 8-5-05; 8:45 am]

BILLING CODE 4910-13-P